DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Alaska Railroad

[Docket Number FRA-2001-11215]

The Alaska Railroad operates passenger service during the summer months, approximately mid-May until late September, between the cities of Talkeetna (mile post 226.7) and Hurricane (mile post 281.4), Alaska. This passenger service is provided on a “Flag Stop” basis for residence and visitors to this wilderness stretch of the railroad, for which there is no road access. The service is normally operated with a single Railway Diesel Car (RDC), manufactured by the Budd Company, that originates each morning in Talkeetna, Alaska.

The Alaska Railroad does not maintain mechanical facilities at either Talkeetna or Hurricane and there are no “Qualified Maintenance Personnel” (QMP) as required by 49 CFR §§ 238.303(c) Exterior calendar day mechanical inspection of passenger equipment and 238.305(b) Interior calendar day mechanical inspection of passenger cars at either location. The closest QMP personnel are located at Anchorage, Alaska which is 112 miles to the south, or Fairbanks, Alaska, which is 243 miles to the north.

The Alaska Railroad seeks relief from the requirements of 49 CFR 238.303(c) and 238.305(b), as they feel that to provide QMP personnel at Talkeetna or Hurricane, Alaska for the sole purpose of accomplishing the daily interior and exterior inspection for 4.5 months of the year is not reasonable. Further, the railroad stated that they provide this service in the public's interest now at a financial loss, even without the additional burden of the QMP personnel at these two locations. Additionally, they stated that it is anticipated that, if provided, the QMP personnel would only work approximately one hour per day.

The Alaska Railroad proposes that they continue their current practice of the train crews, as “Qualified Persons,” performing the required daily interior and exterior inspections as provided for by 49 CFR 238.305(d)(2). The 92-day periodic inspection of this passenger equipment is performed at their mechanical facilities in Anchorage, Alaska., as required by 49 CFR 229.23 Periodic inspection: General.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Docket Number FRA-2001-11215) and must be submitted to the Docket Clerk, DOT Central Docket Management Facility, Room PL-401, Washington, DC 20590. Communications received within 45 days of the date of this notice will be considered by FRA before final action is taken. Comments received after that date will be considered as far as practicable. All written communications concerning these proceedings are available for examination during regular business hours (9 a.m.-5 p.m.) at above facility. All documents in the public docket are also available for inspection and copying on the Internet at the docket facility's Web site at http://dms.dot.gov.

Issued in Washington, DC on January 17, 2002.
Grady C. Cothen, Jr.,
Deputy Associate Administrator, for Safety Standards and Program Development.

[FR Doc. 02-1636 Filed 1-22-02; 8:45 am]

BILLING CODE 4910-06-P